DEPARTMENT OF LABOR

Employment and Training Administration

[TA-W-61,554, et al.]

Semitool, Incorporated, Including On-Site Leased Employees From LC Staffing, Express Personnel and Workplace, Inc., Kalispell, MT; Amended Certification Regarding Eligibility To Apply for Worker Adjustment Assistance and Alternative Trade Adjustment Assistance

Including Employees in Support of Semitool, Incorporated, Kalispell, Montana Working at Various Locations in the Following States
TA-W-61,554C ARIZONA | TA-W-63,996D CALIFORNIA
TA-W-61,554E FLORIDA | TA-W-61,554F MAINE
TA-W-61,554G NORTH CAROLINA | TA-W-61,554H NEW JERSEY
TA-W-61,554I NEW YORK | TA-W-61,554J OREGON
TA-W-61,554K PENNSYLVANIA | TA-W-61,554L TEXAS
TA-W-61,554M UTAH | TA-W-61,554N VIRGINIA
TA-W-61,554O WASHINGTON | TA-W-61,554P WISCONSIN

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 16, 2007, applicable to workers of Semitool, Incorporated, including on-site leased workers from LC Staffing, Express Personnel, and Workplace, Incorporated, Kalispell, Montana. The notice was published in the Federal Register on August 2, 2007 (72 FR 42435).

At the request of the State agency, the Department reviewed the certification for workers of the subject firm. The workers are engaged in the production of semiconductor processing equipment.

New information shows that worker separations occurred involving employees who provided sales and services supporting the Kalispell, Montana location of Semitool, Incorporated working at various locations in the above mentioned States.

Based on these findings, the Department is amending this certification to include employees of the Kalispell, Montana facility of Semitool, Incorporated working out of the above mentioned States.

The intent of the Department's certification is to include all workers of Semitool, Incorporated, Kalispell, Montana who were adversely affected by increased imports of semiconductor processing equipment.

The amended notice applicable to TA-W-61,554 is hereby issued as follows:

All workers of Semitool, Incorporated, including on-site leased workers from LC Staffing, Express Personnel and Workplace, Incorporated, Kalispell, Montana, including employees in support of Semitool, Incorporated, Kalispell, Montana working at various locations in the following states: Arizona (TA-W-61,554C), California (TA-W-61,554D), Florida (TA-W-61,554E), Maine (TA-W-61,554F), North Carolina (TA-W-61,554G), New Jersey (TA-W-61,554H), New York (TA-W-61,554I), Oregon (TA-W-61,554J), Pennsylvania (TA-W-61,554K), Texas (TA-W-61,554L), Utah (TA-W-61,554M, Virginia (TA-W-61,554N), Washington (TA-W-61,554O) and Wisconsin (TA-W-61,554P), who became totally or partially separated from employment on or after May 18, 2006, through July 16, 2009, are eligible to apply for adjustment assistance under Section 223 of the Trade Act of 1974, and are also eligible to apply for alternative trade adjustment assistance under Section 246 of the Trade Act of 1974.

Signed at Washington, DC this 26th day of March 2009.
Elliott S. Kushner,
Certifying Officer, Division of Trade Adjustment Assistance.

[FR Doc. E9-7795 Filed 4-6-09; 8:45 am]

BILLING CODE 4510-FN-P